DEPARTMENT OF ENERGY

Federal Energy Regulatory Commission

Combined Notice of Filings #1

April 7, 2006.

Take notice that the Commission received the following electric rate filings.

Docket Numbers: ER02-2400-005; ER06-64-001.

Applicants: Southern California Water Company.

Description: Golden State Water Co submits its revised Third Revised Sheet 1 et al., FERC Electric Tariff, Original Volume 1, to be effective 3/29/06, to reflect its name change, et al.

Filed Date: 03/28/2006.

Accession Number: 20060404-0010.

Comment Date: 5 p.m. eastern time on Tuesday, April 18, 2006.

Docket Numbers: ER06-278-000; ER06-278-002.

Applicants: Nevada Hydro Company, Inc.

Description: Nevada Hydro Co Company, Inc submits its response to FERC's 2/17/06 request for additional information and on 3/29/06 submits corrections to its filing of 3/20/06.

Filed Date: 03/20/2006 and 03/29/06.

Accession Numbers: 20060331-0184 and 20060404-0010.

Comment Date: 5 p.m. eastern time on Friday, April 21, 2006.

Docket Numbers: ER06-456-002.

Applicants: PJM Interconnection, LLC.

Description: PJM Interconnection, LLC submits an amendment to its 3/5/06 filing.

Filed Date: 03/29/2006.

Accession Number: 20060331-0187.

Comment Date: 5 p.m. eastern time on Friday, April 14, 2006.

Docket Numbers: ER06-522-001.

Applicants: Midwest Independent Transmission System Operator, Inc.; Midwest ISO Transmission Owners.

Description: Midwest Independent Transmission System Operator, Inc et al. submit its proposed revisions to Attachment N-1 of Midwest ISO Open Access Transmission & Energy Markets Tariff.

Filed Date: 03/29/2006.

Accession Number: 20060331-0186.

Comment Date: 5 p.m. eastern time on Wednesday, April 19, 2006.

Docket Numbers: ER06-619-001; ER96-110-019; ER99-2774-011; ER03-956-008; ER03-185-006; ER03-17-006; ER01-545-008; ER00-1783-008; ER02-795-006; ER96-2504-013; ER05-1367-002; ER05-1368-002; ER05-1369-003; ER00-826-005; ER00-828-005; ER98-421-016; ER98-4055-013; ER01-1337-008; ER02-177-009; ER03-1212-007.

Applicants: Duke Power Company LLC; Duke Energy Trading and Marketing, L.L.C.; Duke Energy Marketing America, LLC; Duke Energy Fayette, LLC; Duke Energy Hanging Rock, LLC; Duke Energy Lee, LLC; Duke Energy Vermillion, LLC; Duke Energy Washington, LLC; Cincinnati Gas & Electric Company; PSI Energy, Inc.; Union Light Heat & Power Company; Cinergy Marketing & Trading, LP; Brownsville Power I, L.L.C.; Caldonia Power I, L.L.C.; CinCap IV, LLC; CinCap V, LLC; Cinergy Capital & Trading, Inc.; Cinergy Power Investments, Inc.; St. Paul Cogeneration, LLC.

Description: Duke Energy Corp, et al., submit its notice of succession and amended market-based rate tariffs to reflect the name change Duke Power, currently a division of Duke Energy to Duke Power Co, LLC.

Filed Date: 03/29/2006.

Accession Number: 20060403-0196

Comment Date: 5 p.m. eastern time on Wednesday, April 19, 2006.

Docket Numbers: ER06-722-001.

Applicants: Consumers Energy Company.

Description: Consumers Energy Co submits an amendment to its 3/13/06 filing, Notice of Cancellation for its Rate Schedule 102.

Filed Date: 03/29/2006.

Accession Number: 20060331-0178.

Comment Date: 5 pm Eastern Time on Wednesday, April 19, 2006.

Docket Numbers: ER06-791-000.

Applicants: San Diego Gas & Electric Company.

Description: San Diego Gas & Electric Co submits a notice of cancellation of the Interconnection Agreement 23 to FERC Electric Tariff, Second Revised Volume 11 with Palomar Energy, LLC.

Filed Date: 03/27/2006.

Accession Number: 20060404-0009.

Comment Date: 5 p.m. eastern time on Monday, April 17, 2006.

Docket Numbers: ER06-794-000.

Applicants: Xcel Energy Services, Inc.

Description: Xcel Energy Services Inc, on behalf of Public Service Co of Colorado submits its Amended and Restated Agreement for Interconnection Service with Rocky Mountain Energy Center LLC.

Filed Date: 03/29/2006.

Accession Number: 20060331-0177.

Comment Date: 5 p.m. eastern time on Wednesday, April 19, 2006.

Docket Numbers: ER06-795-000.

Applicants: Colorado Green Holdings, LLC; Flat Rock Windpower LLC.

Description: Colorado Green Holdings LLC et al. submit its proposed amendments to their market-based rate schedules and Code of Conduct.

Filed Date: 03/29/2006.

Accession Number: 20060331-0176.

Comment Date: 5 p.m. eastern time on Wednesday, April 19, 2006.

Docket Numbers: ER06-796-000.

Applicants: Emera Energy U.S. Subsidiary No. 2, Inc.

Description: Emera Energy U.S. Subsidiary No 2 Inc submits a petition for order accepting initial rate schedule, Original Volume No. 1, for filing.

Filed Date: 03/29/2006.

Accession Number: 20060331-0175.

Comment Date: 5 p.m. eastern time on Wednesday, April 19, 2006.

Docket Numbers: ER06-798-000.

Applicants: Pacific Gas & Electric Company.

Description: Pacific Gas and Electric Co submits its revised Service Agreements for Wholesale Distribution Service and an existing Interconnection Agreement etc with Port of Stockton.

Filed Date: 03/29/2006.

Accession Number: 20060331-0217.

Comment Date: 5 p.m. eastern time on Wednesday, April 19, 2006.

Docket Numbers: ER06-799-000.

Applicants: Entergy Services Inc.

Description: Entergy Services, Inc agent for Entergy Operating Companies submits an unexecuted Standard Large Generation Interconnection Agreement et al. with Arkansas Electric Cooperative Corp.

Filed Date: 03/29/2006.

Accession Number: 20060331-0202.

Comment Date: 5 p.m. eastern time on Wednesday, April 19, 2006.

Docket Numbers: ER06-802-000.

Applicants: United Wisdom Energy LLC.

Description: United Wisdom Energy, LLC submits a petition for acceptance of initial rate schedule, FERC Electric Rate Schedule 1, waivers and blanket authority.

Filed Date: 03/24/2006.

Accession Number: 20060403-0191.

Comment Date: 5 p.m. eastern time on Friday, April 14, 2006.

Docket Numbers: ER06-803-000.

Applicants: El Paso Electric Company.

Description: El Paso Electric Co submits executed non-conforming Service Agreements with Tucson Electric Power Company.

Filed Date: 03/28/2006.

Accession Number: 20060403-0192.

Comment Date: 5 p.m. eastern time on Tuesday, April 18, 2006.

Docket Numbers: ER06-806-000.

Applicants: California Independent System Operator Corporation.

Description: California Independent System Operator Corp submits an information filing of revised transmission Access Charges effective 3/1/06.

Filed Date: 03/29/2006.

Accession Number: 20060403-0195.

Comment Date: 5 p.m. eastern time on Wednesday, April 19, 2006.

Docket Numbers: ER95-362-022.

Applicants: Stand Energy Corporation.

Description: Stand Energy Corp submits its revised tariff sheets for Rate Schedule No 1 pursuant to the Commission's 11/3/05 order.

Filed Date: 03/29/2006.

Accession Number: 20060331-0108.

Comment Date: 5 p.m. eastern time on Wednesday, April 19, 2006.

Docket Numbers: ER97-2801-006; ER97-2801-008; EL05-95-000; ER03-478-005; ER03-478-006.

Applicants: PacifiCorp.

Description: PacifiCorp and PPM Energy, Inc submit an updated market power analysis in compliance with the Commission's 1/27/06 letter order.

Filed Date: 03/29/2006.

Accession Number: 20060331-0126.

Comment Date: 5 p.m. eastern time on Wednesday, April 19, 2006.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-5553 Filed 4-13-06; 8:45 am]

BILLING CODE 6717-01-P